DEPARTMENT OF HEALTH AND HUMAN SERVICES

Office of the Secretary

Findings of Research Misconduct

AGENCY: Office of the Secretary, HHS.

ACTION: Notice.

SUMMARY: Findings of research misconduct have been made against Ivana Frech, Ph.D. (formerly Ivana De Domenico) (Respondent), former Assistant Professor, Department of Internal Medicine, University of Utah (UU) School of Medicine. Respondent engaged in research misconduct in research supported by U.S. Public Health Service (PHS) funds, specifically National Institute of Diabetes and Digestive and Kidney Diseases (NIDDK), National Institutes of Health (NIH), grants R01 DK070947, R01 DK090257, and R01 DK030534, National Institute of General Medical Sciences (NIGMS), NIH, grant P50 GM082545, National Institute of Allergy and Infectious Diseases (NIAID), NIH, grant R01 AI051174, and National Heart, Lung, and Blood Institute (NHLBI), NIH, grant R01 HL026922. The administrative actions, including debarment for a period of three (3) years, were implemented beginning on August 21, 2023, and are detailed below.

FOR FURTHER INFORMATION CONTACT: Sheila Garrity, JD, MPH, MBA, Director, Office of Research Integrity, 1101 Wootton Parkway, Suite 240, Rockville, MD 20852, (240) 453-8200.

SUPPLEMENTARY INFORMATION: Notice is hereby given that the Office of Research Integrity (ORI) has taken final action in the following case:

Ivana Frech, Ph.D. (formerly Ivana De Domenico), University of Utah: Based on the evidence and findings of an investigation conducted by UU, ORI's oversight review of UU's investigation, and additional analysis conducted by ORI during its oversight review, ORI found that Ivana Frech, Ph.D. (formerly Ivana De Domenico), former Assistant Professor, Department of Internal Medicine, UU School of Medicine, engaged in research misconduct under 42 CFR part 93 in research supported by PHS funds, specifically NIDDK, NIH, grants R01 DK070947, R01 DK090257, and R01 DK030534, NIGMS, NIH, grant P50 GM082545, NIAID, NIH, grant R01 AI051174, and NHLBI, NIH, grant R01 HL026922.

ORI found by a preponderance of the evidence that Respondent intentionally, knowingly, or recklessly falsified and/or fabricated western blot and autoradiogram images related to mechanisms of cellular iron regulation by reusing, relabeling, and manipulating images to falsely report data in eight (8) figures included in the following three (3) PHS-supported published papers:

• Two Distinct Modes of ESCRT-III Recognition are Required for VPS4 Functions in Lysosomal Protein Targeting and HIV-1 Budding. Dev Cell. 2008 Jul;15(1):62-73. doi: 10.1016/j.devcel.2008.05.014 (hereafter referred to as “Dev. Cell 2008”).

• The Role of Ubiquitination in Hepcidin-independent and Hepcidin-dependent Degradation of Ferroportin. Cell Metab. 2011 Nov 2;14(5):635-46. doi: 10.1016/j.cmet.2011.09.008 (hereafter referred to as “Cell Met. Nov. 2011”) Retracted: Cell Met. 2012 Jun 6;15(6):927. doi: 10.1016/j.cmet.2012.04.107.

• Decoupling Ferritin Synthesis from Free Cytosolic Iron Results in Ferritin Secretion. Cell Metab. 2011 Jan 5;13(1):57-67. doi: 10.1016/j.cmet.2010.12.003 (hereafter referred to as “Cell Met. Jan. 2011”). Retracted: Cell Met. 2012 Jun 6;15(6):927. doi: 10.1016/j.cmet.2012.04.012.

ORI found that these acts constitute a significant departure from accepted practices of the relevant research community. Specifically, ORI found by a preponderance of the evidence that Respondent engaged in research misconduct by intentionally, knowingly, or recklessly falsifying and/or fabricating:

• a western blot image in Figure 5B (right bottom panel) of Dev. Cell 2008 by reusing and relabeling an image of three western blot bands to represent the results of different experiments

• western blot images in Figure 1C (top and bottom panels) of Cell Met. Nov. 2011 by reusing and relabeling an image of western blot bands to represent the results of two different experiments

• western blot images in Figures 1D and 3 of Cell Met. Nov. 2011 by reusing and relabeling one image to represent the results of two different experiments

• western blot images in Figures 2Aii and 2B of Cell Met. Nov. 2011 by reusing and relabeling one image as representing the results of two different experiments

• western blot images in Figures 2Aii and 5 of Cell Met. Nov. 2011 by reusing and relabeling one image as representing the results of two different experiments

• images in Figure 4B (top and bottom left panels) of Cell Met. Jan. 2011 by reusing and relabeling an image of an autoradiogram to misrepresent the reported experimental conditions and results

The following administrative actions have been implemented:

(1) For a period of three (3) years, beginning on August 21, 2023, Respondent is debarred from participating in “covered transactions” as defined in 42 CFR 180.200 and procurement transactions covered under the Federal Acquisition Regulation (48 CFR chapter 1).

(2) Respondent is prohibited from serving in any advisory capacity to PHS including, but not limited to, service on any PHS advisory committee, board, and/or peer review committee, or as a consultant for a period of three (3) years, beginning on August 21, 2023.

(3) In accordance with 42 CFR 93.407(a)(1) and 93.411(b), HHS will send to the journal Developmental Cell a notice of ORI's findings and the need for retraction or correction of Dev Cell. 2008 Jul;15(1):62-73. doi: 10.1016/j.devcel.2008.05.014.

Dated: August 30, 2023.
Sheila Garrity,
Director, Office of Research Integrity, Office of the Assistant Secretary for Health.

[FR Doc. 2023-19086 Filed 9-1-23; 8:45 am]

BILLING CODE 4150-31-P